DEPARTMENT OF TRANSPORTATION

Federal Motor Carrier Safety Administration

49 CFR Part 395

[Docket No. FMCSA-2004-19608]

RIN 2126-AB26

Hours of Service of Drivers: Correction

AGENCY: Federal Motor Carrier Safety Administration (FMCSA), DOT.

ACTION: Final rule; correction.

SUMMARY: FMCSA corrects the hours of service (HOS) final rule published on December 27, 2011 (76 FR 81143). This correction notice corrects the amendatory language or guidance to legal editors of the Code of Federal Regulations (CFR) on the proper codification of the December 27, 2011 rule. This notice does not change, in any manner, the regulatory text.

DATES: This final rule is effective February 27, 2012.

FOR FURTHER INFORMATION CONTACT: Mr. Thomas Yager, Chief, Driver and Carrier Operations Division, Federal Motor Carrier Safety Administration, U.S. Department of Transportation, 1200 New Jersey Avenue SE., Washington, DC 20590, (202) 366-4325.

SUPPLEMENTARY INFORMATION: The amendatory instruction for paragraph (b) Driving conditions in § 395.1 Scope of the rules in this part incorrectly referenced revising paragraph (b)(1)'s introductory text. FMCSA intended to completely revise paragraph (b)(1). An unintended edit to the instruction made just before publication caused the instruction to be inaccurate. FMCSA intended for the current paragraph's subparagraphs (b)(1)(i) through (b)(1)(iv) to be removed entirely. See the discussion of the Agency's intentions in the section-by-section analysis on 76 FR 81165 col. 3. This correction notice corrects the instruction for publishers of public and private editions of title 49 CFR chapter III, subchapter B—Federal Motor Carrier Safety Regulations (FMCSRs). Correcting the amendatory language provides guidance to legal editors of the FMCSRs on the proper codification of the December 27, 2011 rule. This notice does not change, in any manner, the regulatory text intended.

In FR Doc. 2011-32696, appearing on page 81134 in the Federal Register of Tuesday, December 27, 2011, the following correction is made.

§ 395.1 [Corrected]

On page 81186, in the third column, in Part 395—Hours of Service of Drivers, in amendment 8a, the instruction, “8. Amend § 395.1 as follows: a. Revise the paragraph (b) heading and paragraph (b)(1) introductory text;” is corrected to read, “8. Amend § 395.1 as follows: a. Revise the paragraph (b) heading and revise paragraph (b)(1);”

Issued on: February 7, 2012.
Larry W. Minor,
Associate Administrator for Policy.

[FR Doc. 2012-3305 Filed 2-10-12; 8:45 am]

BILLING CODE 4910-EX-P